FEDERAL COMMUNICATIONS COMMISSION

[OMB 3060-0690]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before January 5, 2015. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control Number: 3060-0690.

Title: Section 101.17, Performance Requirements for the 38.6-40.0 GHz Frequency Band.

Form Number: N/A.

Type of Review: Extension of a currently approved collection.

Respondents: Business or other for-profit entities; Not-for-profit institutions; and State, local, or tribal government.

Number of Respondents: 5 respondents; 44 responses.

Estimated Time per Response: 2 hours.

Frequency of Response: Reporting requirement at the end of the10-year license term.

Obligation to Respond: Required to obtain or retain benefits. Statutory authority for these information collections are contained in 47 U.S.C. 4(i), 303(c), 303(g), 303(r), and 309(j) of the Communications Act of 1934, as amended.

Total Annual Burden: 30 hours.

Total Annual Cost: $17,400.

Privacy Act Impact Assessment: No impact(s).

Nature and Extent of Confidentiality: There may be a need for confidentiality. Applicants may request confidentiality and request confidential treatment in connection with their substantial service showings pursuant to 47 CFR 0.459 of the Commission's rules.

Needs and Uses: The Commission is submitting this expiring information collection to the Office of Management and Budget (OMB) as an extension to obtain the full three year clearance from them.

The information collection requirements that are contained in Section 101.17 of the Commission's rules require that all 38.6-40.0 GHz band licensees demonstrate substantial service at the time of license renewal (at the end of the ten year license term). A licensee's substantial service showing should include, but not be limited to, the following information for each channel for which they hold a license, in each Economic Area (EA) or a portion of the EA covered by their license, in order to qualify for renewal of that license. The information is used by the Commission staff to satisfy requirements for licensees to demonstrate substantial service at the time of license renewal. Also, the information is used by the Commission to determine whether the licensee is providing service which rises to the level of “substantial” requiring the following information:

(1) A description of the 38.6-40.0 GHz band licensee's current service in terms of geographic coverage;

(2) A description of the 38.6-40.0 GHz band licensee's current service in terms of population served, as well as any additional service provided during the license term; and

(3) A description of the 38.6-40.0 GHz band licensee's investments in its system(s) (type of facilities constructed and their operational status is required).

Any licensees adjudged not to be providing substantial service will not have their license renewed.

Without this information, the Commission would not be able to carry out its statutory responsibilities.

Federal Communications Commission.
Marlene H. Dortch,
Secretary.

[FR Doc. 2014-26115 Filed 11-3-14; 8:45 am]

BILLING CODE 6712-01-P